CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the President's Volunteer Service Award (PVSA) application, Parts A, B, C, D, and E to the Office of Management and Budget (OMB) for review and approval in accordance with the Paperwork Reduction Act of 1995, Pub. L. 104-13, (44 U.S.C. Chapter 35). Copies of this ICR, with applicable supporting documentation, may be obtained by calling the Corporation for National and Community Service, Shannon Maynard at 202-606-6713. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Registeron September 8, 2006. This comment period ended November 20, 2006. No public comments were received from this notice.

Description: Currently, the Corporation is soliciting comments concerning the proposed renewal of its President's Volunteer Service Award (PVSA) application, Parts A, B, C, D, and E. These applications must be completed by any organization that is interested in presenting the President's Volunteer Service Award. The President's Volunteer Service Award was established in 2003 as a recognition program to honor Americans who have answered the President's call to service and have made a sustained commitment to giving back to their communities and country through volunteer service. The President's Volunteer Service Award (PVSA) is one initiative that grew out of the USA Freedom Corps office at the White House, and the President's Council on Service and Civic Participation. In the past three years of the program, more than 500,000 Americans have received this honor. The PVSA application is completed by any organization interested in honoring their volunteers with the President's Volunteer Service Award. The application may be completed electronically using an on-line form at www.presidentialserviceawards.gov or by printing off and submitting the form via mail.

Type of Review: Renewal.

Agency: Corporation for National and Community Service.

Title: President's Volunteer Service Award Applications.

OMB Number: 3045-0086.

Agency Number: None.

Affected Public: Not-for-profit, and private sector organizations.

Total Respondents: 40,000.

Frequency: On occasion.

Average Time Per Response: 15 minutes.

Estimated Total Burden Hours: 10,000 hours.

Total Burden Cost (capital/startup): None.

Total Burden Cost (operating/maintenance): None.

Dated: December 19, 2006.
Nicola Goren,
Chief of Staff, Office of the CEO.

[FR Doc. E6-22263 Filed 12-27-06; 8:45 am]

BILLING CODE 6050-$$-P